DEPARTMENT OF JUSTICE

Office of Justice Programs

[OMB Number 1121-NEW]

Agency Information Collection Activities: Proposed Collection; Comments Requested; Extension of Currently Approved Collection; Bureau of Justice Assistance Application Form: National Motor Vehicle Title Information System

ACTION: 60-Day Notice of Information Collection Under Review.

The Department of Justice (DOJ), Office of Justice Programs, Bureau of Justice Assistance, will be submitting the following information collection request for review and clearance in accordance with the Paperwork Reduction Act of 1995. This proposed information collection is published to obtain comments from the public and affected agencies. Comments are encouraged and will be accepted for “sixty days” until March 12, 2012. If you have additional comments, suggestions, or need a copy of the proposed information collection instrument with instructions or additional information, please contact M.A. Berry at (202) 353-8643 or 1-(866) 859-2687, Bureau of Justice Assistance, Office of Justice Programs, U.S. Department of Justice, 810 7th Street NW., Washington, DC 20531.

Written comments and suggestions from the public and affected agencies concerning the proposed collection of information should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information:

(1) Type of information collection: Extension of currently approved collection.

(2) The title of the form/collection: National Motor Vehicle Title Information System.

(3) The agency form number, if any, and the applicable component of the Department sponsoring the collection: None. Bureau of Justice Assistance, Office of Justice Programs, United States Department of Justice.

(4) Affected public who will be asked or required to respond, as well as a brief abstract.

Primary: Junk yards. Salvage yards. Motor vehicle insurance carriers. States and local units of general government including the 50 state governments, the District of Columbia, Guam, Puerto Rico, and the U.S. Virgin Islands.

Other: None.

Abstract: The reporting of vehicle information by junk yard, salvage yard operators and insurance carriers is expressly required by 49 U.S.C. 30504. Each state is required to make their titling information available to NMVTIS as per 49 U.S.C. 30503(a). Additionally, each state is required “to establish a practice of performing an instant title verification check before issuing a certificate of title.” See 49 U.S.C. 30503(b).

(5) An estimate of the total number of respondents and the amount of time estimated for an average respondent to respond/reply: It is estimated that no more than 13,051 respondents will submit information. Each application takes approximately 30 minutes to complete and is submitted once per vehicle.

(6) An estimate of the total public burden (in hours) associated with the collection: The total hour burden to complete the applications: It is difficult to estimate the total annual cost burden to respondents associated with this information collection. Approximately 10.5 million cars become junk or are salvaged vehicles each year. Insurance carriers and junk and salvage yards must report on all of these vehicles.

If additional information is required, contact Jerri Murray, Department Clearance Officer, U.S. Department of Justice, Justice Management Division, Policy and Planning Staff, 145 N Street NE., Room 2E-508, Washington, DC 20530.

Jerri Murray,
Department Clearance Officer, PRA, United States Department of Justice.

[FR Doc. 2012-294 Filed 1-10-12; 8:45 am]

BILLING CODE 4410-18-P